DEPARTMENT OF TRANSPORTATION

Federal Aviation Administration

U.S. Registration of Aircraft in the Name of Owner Trustees for Non-U.S. Citizen Beneficiary

AGENCY: Federal Aviation Administration, (FAA), DOT.

ACTION: Notice of Availability of Documents for Inspection.

SUMMARY: Incident to a public meeting held by the Federal Aviation Administration (FAA) on Wednesday, June 1, 2011, in Oklahoma City, Oklahoma, concerning aircraft registration by owner trustees for non-U.S. citizen beneficiaries, interested parties have submitted written comments to FAA. Those comments as well as the Notice of Public Meeting and FAA slide presentation may be viewed at the Office of Chief Counsel's FAA Web site located at http://www.faa.gov/about/office_org/headquarters_offices/agc/. Additional comments are being accepted by the FAA through July 1, 2011, and may be submitted via e-mail to ladeana.peden@faa.gov.

FOR FURTHER INFORMATION CONTACT: LaDeana Peden at 405-954-3296, Office of Aeronautical Center Counsel, Federal Aviation Administration.

Issued in Oklahoma City, Oklahoma on June 13, 2011.
Joseph R. Standell,
Aeronautical Center Counsel.

[FR Doc. 2011-15376 Filed 6-20-11; 8:45 am]

BILLING CODE 4910-13-P